DEPARTMENT OF ENERGY

Agency Information Collection Extension

AGENCY: Department of Energy.

ACTION: Submission for Office of Management and Budget (OMB) review; comment request.

SUMMARY: The Department of Energy (DOE) has submitted an information collection request to the OMB for reinstatement under the provisions of the Paperwork Reduction Act of 1995. The information collection requests a three-year approval of its collection, titled United States Energy and Employment Report, OMB Control Number 1910-5179. The proposed collection will collect data from businesses in in-scope industries, quantifying and qualifying employment among energy activities, workforce demographics and the industry's perception on the difficulty of recruiting qualified workers. The data will be used to generate an annual US Energy and Employment Report.

DATES: Comments regarding this collection must be received on or before September 16, 2022. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: David Keyser at David.Keyser@hq.doe.gov or (240) 751-8483.

SUPPLEMENTARY INFORMATION: This information collection request contains:

(1) OMB No.: 1910-5179;

(2) Information Collection Request Title: United States Energy and Employment Report;

(3) Type of Request: Reinstatement, with change, of a previously approved collection for which approval has expired;

(4) Purpose: The rapidly changing nature of energy production, distribution, and consumption throughout the U.S. economy is having a dramatic impact on job creation and economic competitiveness, but is inadequately understood and, in some sectors, incompletely measured by traditional labor market sources. The US Energy and Employment Report Survey will collect data from businesses in in-scope industries, quantifying and qualifying employment among energy activities, workforce demographics and the industry's perception on the difficulty of recruiting qualified workers. The data will be used to generate an annual US Energy and Employment Report;

(5) Annual Estimated Number of Respondents: 40,000;

(6) Annual Estimated Number of Total Responses: 40,000;

(7) Annual Estimated Number of Burden Hours: 9,094;

(8) Annual Estimated Reporting and Recordkeeping Cost Burden: $1 million.

Statutory Authority: Sec. 301 of the Department of Energy Organization Act (42 U.S.C. 7151); sec. 5 of the Federal Energy Administration Act of 1974 (15 U.S.C. 764); and sec. 103 of the Energy Reorganization Act of 1974 (42 U.S.C. 5813).

Signing Authority: This document of the Department of Energy was signed on August 12, 2022, by Betony Jones, Director of the Office of Energy Jobs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 12, 2022.
Treena V. Garrett,
Federal Register Liaison Officer, U.S. Department of Energy.

[FR Doc. 2022-17718 Filed 8-16-22; 8:45 am]

BILLING CODE 6450-01-P